DEPARTMENT OF ENERGY

Federal Energy Regulatory Commission

[Project No. 2686-054]

Duke Energy Carolinas, LLC; Notice of Availability of Environmental Assessment

November 30, 2007.

In accordance with the National Environmental Policy Act of 1969 and the Federal Energy Regulatory Commission's regulations, 18 CFR part 380 (Order No. 486, 52 FR 47879) the Office of Energy Projects has prepared an environmental assessment (EA) for an application filed by Duke Energy Carolinas, LLC (licensee) on January 16, 2007, requesting Commission approval of a non-project use of project lands. The licensee requests permission to grant to The Point at Lake Glenville (The Point) a lease for 0.55 acre of project land and permission to install a private cluster dock with a capacity of 10 watercraft at the Westfork Hydroelectric Project (FERC No. 2686). The project is located on the West Fork of the Tuckasegee River near the town of Cashiers in Jackson County, North Carolina. The project does not occupy any federal lands.

The EA evaluates the environmental impacts that would result from approving the licensee's proposal to grant The Point a lease and permission to replace an existing 5-slip private cluster dock with the proposed 10-slip private cluster dock. The EA finds that approval of the application would not constitute a major federal action significantly affecting the quality of the human environment.

A copy of the EA is on file with the Commission and is available for public inspection. The EA may also be viewed on the Commission's Web site at http://www.ferc.gov using the “eLibrary” link. Enter the docket number (P-2686) excluding the last three digits in the docket number field to access the document. For assistance, contact FERC Online Support at FERCOnlineSupport@ferc.gov or toll-free at 1-866-208-3676, or for TTY, (202) 502-8659.

Any comments should be filed by January 2, 2008 and should be addressed to the Secretary, Federal Energy Regulatory Commission, 888 First Street, NE., Room 1-A, Washington, DC 20426. Please reference the project name and project number (P-2686) on all comments. Comments may be filed electronically via Internet in lieu of paper. The Commission strongly encourages electronic filings. See 18 CFR 385.2001(a)(1)(iii) and the instructions on the Commission's Web site under the “eFiling” link. For further information, contact Chris Yeakel at (202) 502-8132.

Kimberly D. Bose,
Secretary.

[FR Doc. E7-23781 Filed 12-6-07; 8:45 am]

BILLING CODE 6717-01-P